DEPARTMENT OF THE INTERIOR

Bureau of Land Management

[LLIDC01000. 17XL1109AF. L10100000.MU0000. 241A0; 4500103746]

Notice of Realty Action; Recreation and Public Purposes Act Classification

AGENCY: Bureau of Land Management, Interior.

ACTION: Notice of realty action.

SUMMARY: The Bureau of Land Management (BLM) has examined 28.69 acres of public land located in Kootenai County, Idaho, and found it suitable for classification for lease and conveyance under the provisions of the Recreation and Public Purposes (R&PP) Act, as amended.

DATES: In order to be considered in the classification determination, all comments must be received or postmarked no later than December 4, 2017.

ADDRESSES: You may submit written comments by either of the following methods:

• Email: BLM_blm_id_cda_rpp@blm.gov.

• Mail/Hand-Delivery: Field Manager, BLM Coeur d'Alene Field Office, 3815 Schreiber Way, Coeur d'Alene, Idaho 83815.

Documents pertinent to this proposal may be examined at the BLM Coeur d'Alene Field Office at the above address during regular business hours (7:45 a.m. to 4:30 p.m.). Monday through Friday, except Federal holidays.

FOR FURTHER INFORMATION CONTACT: For further information and/or to have your name added to our mailing list, contact Janna Paronto, Realty Specialist, at the above address or phone 208-769-5037, or visit the BLM project Web site at http://bit.ly/cdarpp. Persons who use a telecommunications device for the deaf (TDD) may call the Federal Relay Service (FRS) at 1-800-877-8339 to contact Ms. Paronto. The FRS is available 24 hours a day, 7 days a week, to leave a message or question with Ms. Paronto. You will receive a reply during normal business hours.

SUPPLEMENTARY INFORMATION: The City of Coeur d'Alene, Idaho submitted an application to the BLM to lease and eventually acquire the subject parcel of land for use as a park, under the authority of the R&PP Act, as amended. The parcel, which is located in the city limits within an abandoned railroad right-of-way corridor, is described as:

Boise Meridian, Kootenai County, Idaho

T. 50 N., R. 4 W., tract 44.

The area described contains 28.69 acres as shown on the official survey plat dated January 18, 2002.

The described parcel is not needed for any Federal purpose. The classification is in the public interest and is consistent with the BLM Coeur d'Alene Resource Management Plan, dated June 29, 2007 and the Resource Management Plan Amendment approved on May 26, 2017.

Effective upon publication of this Notice in the Federal Register, the above-described public land is segregated from all forms of appropriation under the public land laws, including United States mining laws, except for lease or conveyance under the R&PP Act.

Interested parties may submit written comments regarding the classification. Comments on the classification should be limited to whether the land is physically suited for the proposed use, and whether the use is consistent with local planning and zoning, as well as State and Federal programs. Any adverse comments concerning the classification decision will be reviewed by the authorized officer, who may sustain, vacate, or modify the realty action.

Before including your address, phone number, email address, or other personal identifying information in your comment, you should be aware that your entire comment—including your personal identifying information—may be made publicly available at any time. While you can ask the BLM in your comment to withhold your personal identifying information from public review, we cannot guarantee that we will be able to do so.

Authority: 43 CFR 2741.5(h).

Kurt Pavlat,
Coeur d'Alene Field Manager.

[FR Doc. 2017-22681 Filed 10-18-17; 8:45 am]

BILLING CODE 4310-GG-P